DEPARTMENT OF DEFENSE

Office of the Secretary

[Docket ID DoD-2020-OS-0026]

Privacy Act of 1974; System of Records

AGENCY: National Geospatial-Intelligence Agency (NGA), Department of Defense (DoD).

ACTION: Rescindment of a System of Records Notice (SORN).

SUMMARY: The NGA is rescinding a System of Records, Vehicle Registration and Driver Record Files, B0503-05. This System of Records maintained traffic offenses, incidents, actions taken, and parking permits issued to agency personnel and contractors. All records previously covered by the Vehicle Registration and Driver Record Files have been destroyed in accordance with the policy and direction specified within the SORN.

DATES: This System of Records rescindment is effective upon publication. The specific date when this system ceased to be a Privacy Act System of Records is August 31, 2017.

FOR FURTHER INFORMATION CONTACT: To submit general questions about the rescinded system, please contact Mr. Charles R. Melton, Chief FOIA, National Geospatial-Intelligence Agency, Security and Installation, Attn: FOIA Office, 7500 GEOINT Drive, Springfield, VA 22150-7500, or by phone at (571) 558-3715.

SUPPLEMENTARY INFORMATION: On November 19, 2013, the Office of the Secretary of Defense (OSD), published a new System of Records, National Geospatial-Intelligence Agency Enterprise Workforce System (EWS) (November 19, 2013, 78 FR 69393). All records previously covered by the NGA Vehicle Registration and Drivers Record Files are now covered by the Enterprise Workforce System, System of Records.

The DoD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act of 1974, as amended, were submitted on December 6, 2019, to the House Committee on Oversight and Reform, the Senate Committee on Homeland Security and Governmental Affairs, and to the Office of Management and Budget (OMB) pursuant to Section 6 of OMB Circular No. A-108, “Federal Agency Responsibilities for Review, Reporting, and Publication under the Privacy Act,” revised December 23, 2016 (December 23, 2016, 81 FR 94424).

System Name and Number

Vehicle Registration and Driver Record Files, B0503-05.

HISTORY:

March 19, 2002, 67 FR 12532.

Dated: February 24, 2020.
Aaron T. Siegel,
Alternate OSD Federal Register Liaison Officer, Department of Defense.

[FR Doc. 2020-03948 Filed 2-26-20; 8:45 am]

BILLING CODE 5001-06-P